DEPARTMENT OF HEALTH AND HUMAN SERVICES

Health Resources and Services Administration

Rural Health Services Outreach Program

AGENCY: Health Resources and Services Administration, HHS.

ACTION: Notice of Class Deviation from Competition Requirements for Rural Health Services Outreach Program (Outreach).

SUMMARY: The Office of Rural Health Policy (ORHP) will provide program expansion supplemental awards to the current Rural Health Services Outreach Program grantees. The program expansion supplemental funds will allow current Outreach grantees to expand outreach and enrollment activities to the rural uninsured for the next Affordable Care Act's (ACA) Health Insurance Marketplace open enrollment period (November 15, 2014-February 15, 2015). In addition, it will help educate the newly insured about the insurance and benefits they can now access as a result of enrolling during the initial Health Insurance Marketplace open enrollment period. The overarching goals of this supplemental funding are to: (1) Increase the number of uninsured educated about their coverage options; (2) increase the number of uninsured enrolled into the Health Insurance Marketplaces or other available sources of insurance, such as Medicaid and the Children's Health Insurance Program; and (3) increase the number of newly insured individuals educated about the benefits and primary care and preventative services to which they now have access.

SUPPLEMENTARY INFORMATION:

Intended Recipient of the Award: Current Outreach Grantees (Quantity: 69)
Grant No. | Grantee name | City | State | Amount
D04RH23609 | PeaceHealth DBA Ketchikan General Hospital | Ketchikan | AK | Not to exceed $25,000.
D04RH23614 | Siloam Springs Regional Health Cooperative, Inc | Siloam Springs | AR | Not to exceed $25,000.
D04RH23596 | Mariposa Community Health Center, Inc | Nogales | AZ | Not to exceed $25,000.
D04RH23569 | County of Nevada Human Services Agency | Nevada City | CA | Not to exceed $25,000.
D04RH23589 | Lake County Tribal Health, Inc | Lakeport | CA | Not to exceed $25,000.
D04RH23620 | Woodlake Union Elementary | Woodlake | CA | Not to exceed $25,000.
D04RH23616 | Telluride Medical Center Foundation | Telluride | CO | Not to exceed $25,000.
D04RH23588 | La Red Health Center, Inc | Georgetown | DE | Not to exceed $25,000.
D04RH23580 | Heartland Rural Health Network, Inc | Avon Park | FL | Not to exceed $25,000.
D04RH23611 | Rural Health Network of Monroe County Florida, Inc | Summerland Key | FL | Not to exceed $25,000.
D04RH23576 | Georgia Southern University | Statesboro | GA | Not to exceed $25,000.
D04RH23585 | Irwin County Board of Health | Ocilla | GA | Not to exceed $25,000.
D04RH23599 | Meadows Regional Medical Center, Inc | Vidalia | GA | Not to exceed $25,000.
D04RH23615 | St. Mary's Hospital, Inc | Cottonwood | ID | Not to exceed $25,000.
D04RH23583 | Indiana Rural Health Association, Inc | Rosedale | IN | Not to exceed $25,000.
D04RH23618 | Unified School District #498 Marshall County Kansas | Waterville | KS | Not to exceed $25,000.
D04RH23572 | Ephraim McDowell Health Care Foundation, Inc | Danville | KY | Not to exceed $25,000.
D04RH23586 | Kentucky Office of Vocational Rehabilitation | Frankfort | KY | Not to exceed $25,000.
D04RH23590 | Lake Cumberland District Health Department | Somerset | KY | Not to exceed $25,000.
D04RH23591 | Lotts Creek Community School, Inc | Hazard | KY | Not to exceed $25,000.
D04RH23595 | Marcum and Wallace Memorial Hospital | Irvine | KY | Not to exceed $25,000.
D04RH23603 | Montgomery County Kentucky Health Department | Mount Sterling | KY | Not to exceed $25,000.
D04RH24757 | Unlawful Narcotics Investigation, Treatment and Education | Somerset | KY | Not to exceed $25,000.
D04RH23582 | Hospital Service District No. 1-A of the Parish of Richland | Delhi | LA | Not to exceed $25,000.
D04RH23584 | Innis Community Health Center, Inc | Innis | LA | Not to exceed $25,000.
D04RH23592 | Louisiana Tech University | Ruston | LA | Not to exceed $25,000.
D04RH23556 | Allegany Health Right, Inc | Cumberland | MD | Not to exceed $25,000.
D04RH23604 | Mount Desert Island Hospital Organization | Bar Harbor | ME | Not to exceed $25,000.
D04RH23621 | Spectrum Health Hospitals | Greenville | MI | Not to exceed $25,000.
D04RH23622 | Sterling Area Health Center | Sterling | MI | Not to exceed $25,000.
D04RH23623 | Upper Great Lakes Family Health Center | Gwinn | MI | Not to exceed $25,000.
D04RH23624 | Western Upper Peninsula District Health Department | Hancock | MI | Not to exceed $25,000.
D04RH23568 | County of Koochiching | International Falls | MN | Not to exceed $25,000.
D04RH23601 | Mississippi Headwaters Area Dental Health Center | Bemidji | MN | Not to exceed $25,000.
D04RH23566 | Citizens Memorial Hospital District | Bolivar | MO | Not to exceed $25,000.
D04RH23574 | Freeman Neosho Hospital | Neosho | MO | Not to exceed $25,000.
D04RH23579 | Health Care Coalition of Layfayette County | Lexington | MO | Not to exceed $25,000.
D04RH23608 | Northeast Missouri Health Council, Inc | Kirksville | MO | Not to exceed $25,000.
D04RH23563 | Central Mississippi Residential Center | Newton | MS | Not to exceed $25,000.
D04RH23562 | Butte Silver Bow Primary Health Care Clinic, Inc AKA Butte Community Health Center | Butte | MT | Not to exceed $25,000.
D04RH23578 | Granite County Medical Center | Philipsburg | MT | Not to exceed $25,000.
D04RH23594 | Madison Valley Hospital Association, Inc | Ennis | MT | Not to exceed $25,000.
D04RH23602 | Seely Swan Hospital District | Seeley Lake | MT | Not to exceed $25,000.
D04RH25707 | Partnership for Children of the Foothills | Forest City | NC | Not to exceed $25,000.
D04RH23605 | Nebraska Association of Local Health Directors | Kearney | NE | Not to exceed $25,000.
D04RH23610 | Public Health Solutions | Crete | NE | Not to exceed $25,000.
D04RH23597 | Mary Hitchcock Memorial Hospital/Dartmouth-Hitchcock Medical Center | Lebanon | NH | Not to exceed $25,000.
D04RH23600 | Mid-State Health Center | Plymouth | NH | Not to exceed $25,000.
D04RH23607 | North Country Health Consortium Inc | Littleton | NH | Not to exceed $25,000.
D04RH23559 | Ben Archer Health Center | Hatch | NM | Not to exceed $25,000.
D04RH23581 | Hidalgo Medical Services | Lordsburg | NM | Not to exceed $25,000.
D04RH23564 | Chautauqua County Health Network, Inc | Jamestown | NY | Not to exceed $25,000.
D04RH23565 | Chautauqua Opportunities, Inc | Dunkirk | NY | Not to exceed $25,000.
D04RH23573 | Fostoria Community Hospital | Fostoria | OH | Not to exceed $25,000.
D04RH23617 | Trinity Hospital Twin City | Dennison | OH | Not to exceed $25,000.
D04RH23587 | La Clinica Del Carino | Hood River | OR | Not to exceed $25,000.
D04RH23613 | Samaritan North Lincoln Hospital | Lincoln City | OR | Not to exceed $25,000.
D04RH23557 | Armstrong-Indiana Drug and Alcohol Commission, Inc | Shelocta | PA | Not to exceed $25,000.
D04RH26834 | Community Guidance Center | Indiana | PA | Not to exceed $25,000.
D04RH23570 | Delta Dental Plan of South Dakota | Pierre | SD | Not to exceed $25,000.
D04RH23612 | Sacred Heart Health Service | Yankton | SD | Not to exceed $25,000.
D04RH23619 | University of South Dakota | Vermillion | SD | Not to exceed $25,000.
D04RH23561 | Buffalo Valley, Inc | Hohenwald | TN | Not to exceed $25,000.
D04RH23593 | Madison County | Madisonville | TX | Not to exceed $25,000.
D04RH23577 | Giles Free Clinic | Pearisburg | VA | Not to exceed $25,000.
D04RH23558 | Behavioral Health Network of Vermont | Montpelier | VT | Not to exceed $25,000.
D04RH23560 | Bi-State Primary Care Association | Montpelier | VT | Not to exceed $25,000.
D04RH23555 | ABC for Rural Health, Inc | Balsam Lake | WI | Not to exceed $25,000.
D04RH23575 | Future Generations | Circleville | WV | Not to exceed $25,000.

Amount of Non-Competitive Awards: $25,000/award

Period of Supplemental Funding: To be used in the current fiscal year (FY) 2014 budget period

CFDA Number: 93.912

Authority: Public Health Service Act, Section 330A (e) (42 U.S.C. 254(c)), as amended.

Justification: A greater proportion of rural residents lack health insurance in comparison to urban residents. With millions still uninsured, this supplemental funding will allow current Outreach grantees an opportunity to specifically employ and tailor ACA outreach and enrollment efforts to the uninsured population in rural communities for the upcoming Health Insurance Marketplace open enrollment period (November 15, 2014-February 15, 2015). Additionally, Outreach grantees will be able help educate the newly insured rural Americans about the health insurance coverage and care to which they now have access.

FOR FURTHER INFORMATION CONTACT: Linda Kwon, MPH, Community Based Division, Office of Rural Health Policy, Health Resources and Services Administration, 5600 Fishers Lane, Room 17W29C, Rockville, MD 20857, phone: (301) 594-4205, or email: Lkwon@hrsa.gov.

Dated: August 7, 2014.
Mary K. Wakefield,
Administrator.

[FR Doc. 2014-19200 Filed 8-13-14; 8:45 am]

BILLING CODE 4165-15-P